DEPARTMENT OF COMMERCE

International Trade Administration

[C-533-937]

Overhead Door Counterbalance Torsion Springs From India: Preliminary Affirmative Countervailing Duty Determination and Alignment of Final Determination With Final Antidumping Duty Determination; Correction

AGENCY: Enforcement and Compliance, International Trade Administration, Department of Commerce.

ACTION: Notice; correction.

SUMMARY: The U.S. Department of Commerce (Commerce) published notice in the Federal Register of April 3, 2025, in which Commerce published the affirmative countervailing duty (CVD) determination in the investigation of overhead door counterbalance torsion springs (overhead door springs) from India. This notice corrects the name of the company Asha Spring and Engineering Company.

FOR FURTHER INFORMATION CONTACT: Zachary Shaykin, AD/CVD Operations, Office IV, Enforcement and Compliance, International Trade Administration, U.S. Department of Commerce, 1401 Constitution Avenue NW, Washington, DC 20230; telephone: (202) 482-2638.

SUPPLEMENTARY INFORMATION:

Background

On April 3, 2025, Commerce published in the Federal Register the affirmative preliminary determination in the CVD investigation of overhead door springs from India.¹ We incorrectly published the name of the company Asha Spring and Engineering Company as “Asha Spring and Engineering & Spring Company.” ²

¹ See Overhead Door Counterbalance Torsion Springs from India: Preliminary Affirmative Countervailing Duty Determination and Alignment of Final Determination With Final Antidumping Duty Determination, 90 FR 14602 (April 3, 2025).

² Id., 90 FR at 14603.

Correction

In the Federal Register of April 3, 2025, in FR Doc 2025-05759, on page 14603, in the third column, in the table, under the heading titled, “Company”, correct the entry “Asha Spring and Engineering & Spring Company” as follows:

Asha Spring and Engineering Company

Notification to Interested Parties

This notice is issued and published in accordance with sections 703(f) and 777(i) of the Tariff Act of 1930, as amended, and 19 CFR 351.205(c).

Dated: April 7, 2025.
Christopher Abbott,
Deputy Assistant Secretary for Policy and Negotiations, performing the non-exclusive functions and duties of the Assistant Secretary for Enforcement and Compliance.

[FR Doc. 2025-06224 Filed 4-10-25; 8:45 am]

BILLING CODE 3510-DS-P